DEPARTMENT OF DEFENSE

Office of the Secretary

Establishment of Department of Defense Federal Advisory Committees

AGENCY: Department of Defense.

ACTION: Establishment of federal advisory committee.

SUMMARY: Under the provisions of section 596 of Public Law 110-417, the Federal Advisory Committee Act of 1972 (5 U.S.C. Appendix, as amended), the Government in the Sunshine Act of 1976 (5 U.S.C. 552b, as amended), and 41 CFR 102-3.65, the Department of Defense gives notice that it is establishing the Military Leadership Diversity Commission (hereafter referred to as the Commission).

The Commission is a non-discretionary federal advisory commission established under the authority of section 596 of Public Law 110-417 and 41 CFR 102-3.50(a) to conduct a comprehensive evaluation and assessment of policies that provide opportunities for the promotion and advancement of minority members of the Armed Forces, including minority members who are senior officers.

In carrying out the study, the commission shall examine the following:

1. The efforts to develop and maintain diverse leadership at all levels of the Armed Forces.

2. The successes and failures of developing and maintaining a diverse leadership, particularly at the general and flag officer positions.

3. The effect of expanding Department of Defense secondary educational programs to diverse civilian populations, to include military service academy preparatory schools.

4. The ability of current recruitment and retention practices to attract and maintain a diverse pool of qualified individuals in sufficient numbers in officer pre-commissioning programs.

5. The ability of current activities to increase continuation rates for ethnic- and gender-specific members of the Armed Forces.

6. The benefits of conducting an annual conference attended by civilian military, active-duty and retired military, and corporate leaders on diversity, to include a review of current policy and the annual demographic data from the Defense Manpower Data Center.

7. The status of prior recommendations made to the Department of Defense and to Congress concerning diversity initiatives within the Armed Forces.

8. The incorporation of private sector practices that have been successful in cultivating diverse leadership.

9. The establishment and maintenance of fair promotion and command opportunities for ethnic- and gender-specific members of the Armed Forces at the 0-5 grade level and above.

10. An assessment of pre-command billet assignments of ethnic-specific members of the Armed Forces.

11. The development of a uniform definition, to be used throughout the Department of Defense, of diversity that is congruent with the core values and vision of the Department of Defense for the future workforce.

12. The existing metrics and milestones for evaluating the diversity plans of the Department of Defense (including the plans of the Military Departments) and for facilitating future evaluation and oversight.

13. The existence and maintenance of fair promotion, assignment, and command opportunities for ethnic- and gender-specific members of the Armed Forces at the levels of warrant officer, chief warrant officer, company and junior grade, field and mid-grade, and general and flag officer.

14. The current institution structure of the Office of Diversity Management and Equal Opportunity of the Department of Defense, and of similar officers of the Military Departments, and their ability to ensure effective and accountable diversity management across the Department of Defense.

15. The option available for improving the substance or implementation of current plans and policies of the Department of Defense and the Military Departments.

No later than 12 months after the date on which the commission first meets, the commission shall submit to the President and Congress a report on the commission's study. The report shall include, as a minimum, the following:

1. The findings and conclusions of the commission;

2. The recommendations of the commission for improving diversity within the Armed Forces; and

3. Such other information and recommendations as the commission considers appropriate.

In addition, the commission may submit interim reports to the President and Congress as the commission considers appropriate.

The commission, pursuant to section 596(d)(3) of Public Law 110-417, may consult with appropriate private, for profit, and non-profit organizations and advocacy groups to learn methods for developing, implementing, and sustaining senior diverse leadership within the Department of Defense. In addition, the commission, pursuant to section 596(f)(1) of Public Law 110-416, may hold such hearings, sit and act at such times and places, take such testimony, and receive such evidence as the commission considers appropriate.

Members shall be appointed for the life of the commission. Any vacancy in the commission shall be filled in the same manner as the original appointment. The commission, pursuant to section 596(b) of Public Law 110-416, shall be composed of the following members:

1. The Director of the Defense Manpower Data Center;

2. The Commandant of the Director of the Defense Equal Opportunity Management Institute;

3. A commissioned officer from each of the Army, Navy, Air Force, and Marine Corps who serves or has served in a leadership position with either a Military Department command or combatant command;

4. A commissioned officer or noncommissioned officer of the Coast Guard on active duty;

5. A retired general or flag officer from each of the Army, Navy, Air Force and Marine Corps;

6. A retired flag officer of the Coast Guard;

7. A retired noncommissioned officer from each of the Army, Navy, Air Force and Marine Corps;

8. Five retired commissioned officers who served in leadership positions with either a Military Department command or combatant command, of who no less than three shall represent the views of minority veterans;

9. Four individuals with expertise in cultivating diverse leaders in private or non-profit organizations; and

10. An attorney with appropriate experience and expertise in constitutional and legal matters related to the duties and responsibilities of the committee.

The appointment of the Director of the Defense Manpower Data Center and the Commandant of the Defense Equal Opportunity Management Institute shall be based upon their ex-officio position within the Department of Defense. Representatives for the incumbents may attend committee meetings; however, they shall not exercise any authority unless they have been appointed in writing, pursuant to DoD policies and procedures, as the Acting Director.

With the exception of the representatives of the U.S. Coast Guard, the Secretary of Defense shall appoint the commission members. Commission members appointed by the Secretary of Defense, who are not full-time or permanent part-time employees of the federal government, shall be appointed as experts and consultants under the authority of 5 U.S.C. 3109, and these individuals shall serve as special government employees.

Pursuant to section 596(g)(1) of Public Law 110-416, the Secretary of Homeland Security, in consultation with the Commandant of the Coast Guard, shall appoint two individuals to represent the interests of the U.S. Coast Guard.

Commission members, who are not full-time or permanent part-time federal employees, shall serve without compensation. All commission members shall be provided travel and per diem for official commission travel.

These experts and consultants shall be considered Special Government Employees, and their appointments, regardless of their term of office, shall be renewed by the Secretary of Defense on an annual basis.

The Secretary of Defense, pursuant to section 596(b)(3) of Public Law 110-416, shall designate one member as the chairman of the commission.

The commission, pursuant to section 596(c)(2) of Public Law 110-416, shall meet at the call of the chairman. Pursuant to section 596(b)(6) of Public Law 110-416, fifteen committee members shall constitute a quorum, but a lesser number may hold hearings.

The Department of Defense, pursuant to 41 CFR 102-3.105(i) and DoD policies and procedures, shall appoint a full-time or permanent part-time DoD employee to serve as commission's Designated Federal Officer. The Designated Federal Officer shall comply with existing federal statutes and regulations governing federal advisory committees, and shall attend all commission and subcommittee meetings.

The commission shall be authorized to establish subcommittees, as necessary and consistent with its mission, and these subcommittees or working groups shall operate under the provisions of the Federal Advisory Committee Act of 1972, the Government in the Sunshine Act of 1976 (5 U.S.C. 552b, as amended), and other appropriate federal regulations.

Such subcommittees or workgroups shall not work independently of the chartered commission, and shall report all their recommendations and advice to the commission for full deliberation and discussion. Subcommittees or workgroups have no authority to make decisions on behalf of the chartered commission nor can they report directly to the Department of Defense or any federal officers or employees who are not commission members.

FOR FURTHER INFORMATION CONTACT: Contact Jim Freeman, Deputy Committee Management Officer for the Department of Defense, 703-601-6128.

SUPPLEMENTARY INFORMATION: Pursuant to 41 CFR 102-3.105(j) and 102-3.140, the public or interested organizations may submit written statements to the Military Leadership Diversity Commission membership about the commission's mission and functions. Written statements may be submitted at any time or in response to the stated agenda of planned meeting of the Military Leadership Diversity Commission.

All written statements shall be submitted to the Designated Federal Officer for the Military Leadership Diversity Commission, and this individual will ensure that the written statements are provided to the membership for their consideration. Contact information for the Military Leadership Diversity Commission's Designated Federal Officer, once appointed, may be obtained from the GSA's FACA Database— https://www.fido.gov/facadatabase/public.asp.

The Designated Federal Officer, pursuant to 41 CFR 102-3.150, will announce planned meetings of the Military Leadership Diversity Commission. The Designated Federal Officer, at that time, may provide additional guidance on the submission of written statements that are in response to the stated agenda for the planned meeting in question.

Dated: January 14, 2009.
Patricia L. Toppings,
OSD Federal Register Liaison Officer, Department of Defense.

[FR Doc. E9-1423 Filed 1-23-09; 8:45 am]

BILLING CODE 5001-06-P